ENVIRONMENTAL PROTECTION AGENCY

[EPA-R07-SFUND-2012-0897; FRL-9761-9]

Proposed Administrative Cost Recovery Settlement Under the Comprehensive Environmental Response Compensation and Liability Act, as Amended, Radiation—Former Air Capitol Dial Superfund Site, Sedgwick County, KS

AGENCY: Environmental Protection Agency (EPA).

ACTION: Notice; request for public comment.

SUMMARY: In accordance with Section 122(i) of the Comprehensive Environmental Response Compensation and Liability Act, as amended (CERCLA), notice is hereby given of a proposed administrative settlement with Air Capitol Dial, Inc., for recovery of past response costs concerning the Radiation—Former Air Capitol Dial Superfund Site (the “Site”) in Sedgwick County, Kansas. The settlement requires Air Capitol Dial, Inc. to pay $225,000 plus interest over a three year period of time, to the Hazardous Substance Superfund. Total past costs for the Site are approximately $600,000. The settlement includes a covenant not to sue the settling party pursuant to Section 107(a) of CERCLA. For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 11201 Renner Boulevard, Lenexa, Kansas.

DATES: Comments must be submitted on or before January 11, 2013.

ADDRESSES: The proposed settlement is available for public inspection at the EPA Region 7 office, 11201 Renner Boulevard, Lenexa, Kansas, Monday through Friday, between the hours of 7:00 a.m. through 5:00 p.m. A copy of the proposed settlement may be obtained from the Regional Hearing Clerk, 11201 Renner Boulevard, Lenexa, Kansas, (913) 551-7567. Requests should reference the Radiation—Former Air Capitol Dial Superfund Site, EPA Docket No. CERCLA-07-2011-0005. Comments should be addressed to: Denise L. Roberts, Senior Assistant Regional Counsel, 11201 Renner Boulevard, Lenexa, Kansas 66219.

FOR FURTHER INFORMATION CONTACT: Denise L. Roberts, at telephone: (913) 551-7559; fax number: (913) 551-7925/Attn: Denise L. Roberts; Email address: roberts.denise@epa.gov.

Dated: November 28, 2012.
Cecilia Tapia,
Director, Superfund Division, Region 7.

[FR Doc. 2012-29975 Filed 12-11-12; 8:45 am]

BILLING CODE 6560-50-P